DEPARTMENT OF ENERGY

Federal Energy Regulatory Commission

[Project No. 14527-000]

Kings River Conservation District; Notice of Preliminary Permit Application Accepted for Filing and Soliciting Comments and Motions To Intervene

On June 3, 2013, the Kings River Conservation District filed an application, pursuant to section 4(f) of the Federal Power Act, proposing to study the feasibility of the Gould Weir Hydroelectric Project, to be located on the Kings River, near the city of Sanger, in Fresno County, California. The sole purpose of a preliminary permit, if issued, is to grant the permit holder priority to file a license application during the permit term. A preliminary permit does not authorize the permit holder to perform any land-disturbing activities or otherwise enter upon lands or waters owned by others without the owners' express permission.

The applicant is considering two alternatives for this proposed project. The first option would include the installation of facilities immediately downstream of the existing Gould weir. The second option would include the installation of facilities in a bypass channel adjacent to Gould weir. Based on a reconnaissance-level study of the site performed in 2002, the project could have an installed capacity of 0.96 megawatt and an estimated average annual generation of 4.4 gigawatt-hours utilizing one Kaplan-bulb turbine. A preliminary design of the facilities and selection of the turbine and generator would be performed during the feasibility study.

Applicant Contact: Mr. David Orth, 4886 East Jensen Avenue, Fresno, CA 93725, phone (559) 237-5567, extension 101.

FERC Contact: Corey Vezina, (202) 502-8598 or Corey.vezina@ferc.gov.

Competing Application: This application competes with Project No. 14497-000 filed February 11, 2013. Competing applications had to be filed on or before June 3, 2013.

Deadline for filing comments and motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project can be viewed or printed on the “eLibrary” link of Commission's Web site at http://www.ferc.gov/docs-filing/elibrary.asp. Enter the docket number (P-14527) in the docket number field to access the document. For assistance, call toll-free 1-866-208-3372.

Dated: June 19, 2013.
Kimberly D. Bose,
Secretary.

[FR Doc. 2013-15192 Filed 6-25-13; 8:45 am]

BILLING CODE 6717-01-P